DEPARTMENT OF COMMERCE

National Technical Information Service

Renewal of Currently Approved Information Collection; Comment Request; Limited Access Death Master File Systems Safeguards Attestation Forms

AGENCY: National Technical Information Service (NTIS), Commerce.

ACTION: Notice.

SUMMARY: The Department of Commerce, as part of its continuing effort to reduce paperwork and respondent burden, invites the general public and other Federal agencies to take this opportunity to comment on proposed and/or continuing information collections, as required by the Paperwork Reduction Act of 1995. The purpose of this notice is to allow for 60 days of public comment.

DATES: Written comments must be submitted on or before April 10, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION, CONTACT: Requests for additional information or copies of the information collection instrument and instructions should be directed to John W. Hounsell, Business and Industry Specialist, Office of Product and Program Management, National Technical Information Service, Department of Commerce, 5301 Shawnee Road, Alexandria, VA 22312, email: jhounsell@ntis.gov or telephone: 703-605-6184.

SUPPLEMENTARY INFORMATION:

I. Abstract

This notice informs the public that the National Technical Information Service (NTIS) is requesting approval for renewal of a currently approved information collection described in Section II for use in connection with the final rule for the “Certification Program for Access to the Death Master File.” The final rule was published on June 1, 2016 (81 FR 34882), and the rule became effective on November 28, 2016.

II. Method of Collection

Title of Information Collection:

(A) “Limited Access Death Master File (LADMF) Accredited Conformity Assessment Body Systems Safeguards Attestation Form” (ACAB Systems Safeguards Attestation Form)

(B) “Limited Access Death Master File (LADMF) State or Local Government Auditor General (AG) or Inspector General (IG) Systems Safeguards Attestation Form” (AG or IG Systems Safeguards Attestation Form)

Description of the Need for the Information and the Proposed Use: NTIS issued a final rule establishing a program through which persons may become eligible to obtain access to Death Master File (DMF) information about an individual within three years of that individual's death. The final rule was promulgated under Section 203 of the Bipartisan Budget Act of 2013, Public Law 113-67 (Act). The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS.

On December 30, 2014, NTIS initially described a “Limited Access Death Master File Systems Safeguards Attestation Form” in the notice of proposed rulemaking (79 FR 78314 at 78321). To accommodate the requirements of the final rule, NTIS is using both the ACAB Systems Safeguards Attestation Form and the AG or IG Systems Safeguards Attestation Form.

The ACAB Systems Safeguards Attestation Form requires an “Accredited Conformity Assessment Body” (ACAB), as defined in the final rule, to attest that a Person seeking certification or a Certified Person seeking renewal of certification has information security systems, facilities and procedures in place to protect the security of the Limited Access DMF, as required under Section 1110.102(a)(2) of the final rule. The ACAB Systems Safeguards Attestation Form collects information based on an assessment by the ACAB conducted within three years prior to the date of the Person or Certified Person's submission of a completed certification statement under Section 1110.101(a) of the final rule. This collection includes specific requirements of the final rule, which the ACAB must certify are satisfied, and the provision of specific information by the ACAB, such as the date of the assessment and the auditing standard(s) used for the assessment.

Section 1110.501(a)(2) of the final rule provides that a state or local government office of AG or IG and a Person or Certified Person that is a department or agency of the same state or local government, respectively, are not considered to be owned by a common “parent” entity under Section 1110.501(a)(1)(ii) for the purpose of determining independence, and attestation by the AG or IG is possible. The AG or IG Systems Safeguards Attestation Form is for the use of a state or local government AG or IG to attest on behalf of a state or local government department or agency Person or Certified Person. The AG or IG Systems Safeguards Attestation Form requires the state or local government AG or IG to attest that a Person seeking certification or a Certified Person seeking renewal of certification has information security systems, facilities and procedures in place to protect the security of the Limited Access DMF, as required under Section 1110.102(a)(2) of the final rule. The AG or IG Systems Safeguards Attestation Form collects information based on an assessment by the state or local government AG or IG conducted within three years prior to the date of the Person or Certified Person's submission of a completed certification statement under Section 1110.101(a) of the final rule. This collection includes specific requirements of the final rule, which the state or local government AG or IG must certify are satisfied, and the provision of specific information by the state or local government AG or IG, such as the date of the assessment.

III. Data

OMB Control Number: 0692-0016.

Form Number(s): NTIS FM100A and NTIS FM100B.

Type of Review: Renewal of a currently approved information collection.

Affected Public: Accredited Conformity Assessment Bodies and state or local government Auditors General or Inspectors General attesting that a Person seeking certification or a Certified Person seeking renewal of certification under the final rule for the “Certification Program for Access to the Death Master File” has information security systems, facilities and procedures in place to protect the security of the Limited Access DMF, as required by the final rule.

Estimated Number of Respondents:

ACAB Systems Safeguards Attestation Form: NTIS expects to receive approximately 500 ACAB Systems Safeguards Attestation Forms from Persons and Certified Persons annually.

AG or IG Systems Safeguards Attestation Form: NTIS expects to receive approximately 60 AG or IG Systems Safeguards Attestation Forms from Persons and Certified Persons annually.

Estimated Time per Response:

ACAB Systems Safeguards Attestation Form: 3 hours.

AG or IG Systems Safeguards Attestation Form: 3 hours.

Estimated Total Annual Burden Hours: 1680.

ACAB Systems Safeguards Attestation Form: 1500 (500 × 3 hours = 1500 hours).

AG or IG Systems Safeguards Attestation Form: 180 (60 × 3 hours = 180 hours).

Estimated Total Annual Cost to Public:

ACAB Systems Safeguards Attestation Form: NTIS expects to receive approximately 500 ACAB Systems Safeguards Attestation Forms annually at a fee of $525 per form, for a total cost of $262,500. This total annual cost reflects the cost to the Federal Government for the ACAB Systems Safeguards Attestation Forms, which consists of the expenses associated with NTIS personnel reviewing and processing these forms. NTIS estimates that it will take an ACAB's senior auditor three hours to complete the form at a rate of approximately $135 per hour, for a total additional cost to the public of $202,500 (1500 burden hours x $135/hour = $202,500). NTIS estimates the total annual cost to the public for the ACAB Systems Safeguards forms to be $465,000 ($262,500 in fees + $202,500 in staff time = $465,000).

AG or IG Systems Safeguards Attestation Form: NTIS expects to receive approximately 60 AG or IG Systems Safeguards Attestation Forms annually at a fee of $525 per form, for a total cost of $31,500. This total annual cost reflects the cost to the Federal Government for the AG or IG Systems Safeguards Attestation Forms, which consists of the expenses associated with NTIS personnel reviewing and processing these forms. NTIS estimates that it will take an AG or IG senior auditor three hours to complete the form at a rate of approximately $100 per hour, for a total additional cost to the public of $18,000 (180 burden hours × $100/hour = $18,000). NTIS estimates the total annual cost to the public for AG or IG Systems Safeguards Attestation Forms to be $49,500 ($31,500 in fees + $18,000 in staff time = $49,500).

NTIS estimates the total annual cost to the public for both the ACAB Systems Safeguards Attestation Forms and the AG or IG Systems Safeguards Attestation Forms to be $514,500 ($465,000 for ACAB Systems Safeguards Attestation Forms + $49,500 for AG or IG Systems Safeguards Attestation Forms.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2017-02659 Filed 2-8-17; 8:45 am]

BILLING CODE 3510-13-P